DEPARTMENT OF ENERGY

10 CFR Chs. II, III, and X

48 CFR Ch. 9

Unified Agenda of Federal Regulatory and Deregulatory Actions

AGENCY: Department of Energy.

ACTION: Semi-annual regulatory agenda.

SUMMARY: The Department of Energy (DOE) has prepared and is making available its portion of the semi-annual Unified Agenda of Federal Regulatory and Deregulatory Actions (Agenda) pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Independence and Security Act of 2007, the American Energy Manufacturing Technical Corrections Act and programmatic needs of DOE offices.

The Internet is the basic means for disseminating the Agenda and providing users the ability to obtain information from the Agenda database. DOE's Spring 2017 Agenda can be accessed online by going to www.reginfo.gov.

DOE's regulatory flexibility agenda is made up of rulemakings setting energy efficiency standards and requirements applicable to DOE sites.

John T. Lucas,
Acting General Counsel.

Energy Efficiency and Renewable Energy—Prerule Stage
Sequence No. | Title | Regulation Identifier No.
76 | Modifying the Energy Conservation Program to Implement a Market-Based Approach | 1904-AE11

Energy Efficiency and Renewable Energy—Final Rule Stage
Sequence No. | Title | Regulation Identifier No.
77 | Energy Conservation Standards for Commercial Packaged Boilers | 1904-AD01
78 | Energy Conservation Standards and Definition for General Service Lamps | 1904-AD09
79 | Energy Conservation Standards for Residential Conventional Cooking Products | 1904-AD15
80 | Energy Conservation Standards for Residential Non-Weatherized Gas Furnaces and Mobile Home Gas Furnaces | 1904-AD20
81 | Energy Conservation Standards for Commercial Water Heating Equipment | 1904-AD34
82 | Energy Conservation Standards for Walk-In Coolers and Walk-In Freezers | 1904-AD59
83 | Energy Conservation Program: Test Procedures for Central Air Conditioners and Heat Pumps | 1904-AD71
84 | Energy Conservation Program: Test Procedures for Walk-In Cooler and Freezer Refrigeration Systems | 1904-AD72

Energy Efficiency and Renewable Energy—Completed Actions
Sequence No. | Title | Regulation Identifier No.
85 | Energy Conservation Standards for Ceiling Fans | 1904-AD28
86 | Energy Conservation Standards for Hearth Products | 1904-AD35
87 | Energy Conservation Standards for Central Air Conditioners and Heat Pumps | 1904-AD37
88 | Energy Conservation Standards for Dedicated-Purpose Pool Pumps | 1904-AD52

Defense and Security Affairs—Proposed Rule Stage
Sequence No. | Title | Regulation Identifier No.
89 | Workplace Substance Abuse Programs at DOE Sites | 1992-AA53

Departmental and Others—Proposed Rule Stage
Sequence No. | Title | Regulation Identifier No.
90 | Small-Scale Natural Gas Exports (Section 610 Review) | 1901-AB43

Office of General Counsel—Final Rule Stage
Sequence No. | Title | Regulation Identifier No.
91 | Energy Conservation Program: Certification and Enforcement—Import Data Collection | 1990-AA44

DEPARTMENT OF ENERGY (DOE)

Energy Efficiency and Renewable Energy (EE)

Prerule Stage

76. • Modifying the Energy Conservation Program To Implement a Market-Based Approach

Legal Authority: 42 U.S.C. 6291

Abstract: The U.S. Department of Energy (DOE) is evaluating the potential use of some form of a market-based approach such as an averaging, trading, fee-base or other type of market-based policy mechanism for the U.S. Appliance and Equipment Energy Conservation Standards (ECS) program.

Timetable:

Action | Date | FR Cite
Request for Information | 08/00/17

Regulatory Flexibility Analysis Required: Yes.

Agency Contact: John Cymbalsky, Building Technologies Office, EE-5B, Department of Energy, Energy Efficiency and Renewable Energy, 1000 Independence Avenue SW., Washington, DC 20585, Phone: 202 287-1692, Email: john.cymbalsky@ee.doe.gov.

RIN: 1904-AE11

DEPARTMENT OF ENERGY (DOE)

Energy Efficiency and Renewable Energy (EE)

Final Rule Stage

77. Energy Conservation Standards for Commercial Packaged Boilers

Legal Authority: 42 U.S.C. 6313(a)(6)(C); 42 U.S.C. 6311(11)(B)

Abstract: EPCA, as amended by AEMTCA, requires the Secretary to determine whether updating the statutory energy conservation standards for commercial packaged boilers is technically feasible and economically justified and would save a significant amount of energy. If justified, the Secretary will issue amended energy conservation standards for such equipment. DOE last updated the standards for commercial packaged boilers on July 22, 2009. DOE issued a NOPR pursuant to the 6-year-look-back requirement on March 24, 2016. Under EPCA, DOE has two years to issue a final rule after publication of the NOPR.

Timetable:

Action | Date | FR Cite
Notice of Proposed Determination (NOPD) | 08/13/13 | 78 FR 49202
NOPD Comment Period End | 09/12/13 |
Notice of Public Meeting and Framework Document Availability | 09/03/13 | 78 FR 54197
Framework Document Comment Period End | 10/18/13 |
Notice of Public Meeting and Preliminary Analysis | 11/20/14 | 79 FR 69066
Preliminary Analysis Comment Period End | 01/20/15 |
Withdrawal of NOPD | 08/25/15 | 80 FR 51487
NPRM | 03/24/16 | 81 FR 15836
NPRM Comment Period End | 05/23/16 |
NPRM Comment Period Extended | 05/04/16 | 81 FR 26747
NPRM Comment Period Extended End | 06/22/16 |
Final Action | 09/00/17 |

Regulatory Flexibility Analysis Required: Yes.

Agency Contact: James Raba, Office of Building Technologies Program, EE-5B, Department of Energy, Energy Efficiency and Renewable Energy, 1000 Independence Avenue SW., Washington, DC 20585, Phone: 202 586-8654, Email: jim.raba@ee.doe.gov.

RIN: 1904-AD01

78. Energy Conservation Standards and Definition for General Service Lamps

Legal Authority: 42 U.S.C. 6295(i)(6)(A)

Abstract: Amendments to Energy Policy and Conservation Act (EPCA) in the Energy Independence and Security Act of 2007 direct DOE to conduct two rulemaking cycles to evaluate energy conservation standards for GSLs, the first of which must be initiated no later than January 1, 2014 (42 U.S.C. 6295(i)(6)(A)-(B)). EPCA specifically states that the scope of the rulemaking is not limited to incandescent lamp technologies. EPCA also states that DOE must consider in the first rulemaking cycle the minimum backstop requirement of 45 lumens per watt for general service lamps (GSLs) effective January 1, 2020.

This RIN encompasses both the first rulemaking cycle to evaluate energy conservation standards for GSL's and also adopts a Definition Rule for GSLs. A regulatory flexibility analysis is required only in a GSL standards rule, and not in the Final Definition Rule.

Timetable:

Action | Date | FR Cite
Framework Document Availability; Notice of Public Meeting | 12/09/13 | 78 FR 73737
Framework Document Comment Period End | 01/23/14 |
Framework Document Comment Period Extended | 01/23/14 | 79 FR 3742
Framework Document Comment Period Extended End | 02/07/14 |
Preliminary Analysis; Notice of Public Meeting | 12/11/14 | 79 FR 73503
Preliminary Analysis Comment Period End | 02/09/15 |
Preliminary Analysis Comment Period Extended | 01/30/15 | 80 FR 5052
Preliminary Analysis Comment Period Extended End | 02/23/15 |
Notice of Public Meeting; Webinar | 03/15/16 | 81 FR 13763
NPRM | 03/17/16 | 81 FR 14528
NPRM Comment Period End | 05/16/16 |
Notice of Public Meeting; Webinar | 10/05/16 | 81 FR 69009
Proposed Definition and Data Availability | 10/18/16 | 81 FR 71794
Proposed Definition and Data Availability Comment Period End | 11/08/16 |
Final Rule Adopting a Definition for GSL | 01/19/17 | 82 FR 7276
Final Rule Adopting a Definition for GSL Effective | 01/01/20 |
Final Rule Adopting a Definition for GSL Including IRL | 01/19/17 | 82 FR 7322
Final Rule Adopting a Definition for GSL Including IRL Effective | 01/01/20 |

Regulatory Flexibility Analysis Required: Yes.

Agency Contact: Lucy DeButts, Buildings Technologies Office, EE-5B, Department of Energy, Energy Efficiency and Renewable Energy, 1000 Independence Avenue SW., Washington, DC 20585, Phone: 202 287-1604, Email: lucy.debutts@ee.doe.gov.

RIN: 1904-AD09

79. Energy Conservation Standards for Residential Conventional Cooking Products

Legal Authority: 42 U.S.C. 6295(m)(1); 42 U.S.C. 6292(a)(10)

Abstract: EPCA, as amended by EISA 2007, requires the Secretary to determine whether updating the statutory energy conservation standards for residential conventional cooking products would yield a significant savings in energy use and is technically feasible and economically justified. DOE is reviewing to make such determination.

Timetable:

Action | Date | FR Cite
Request for Information (RFI) | 02/12/14 | 79 FR 8337
RFI Comment Period End | 03/14/14
RFI Comment Period Extended | 03/03/14 | 79 FR 11714
RFI Comment Period Extended End | 04/14/14
NPRM and Public Meeting | 06/10/15 | 80 FR 33030
NPRM Comment Period Extended | 07/30/15 | 80 FR 45452
NPRM Comment Period Extended End | 09/09/15
Supplemental NPRM | 09/02/16 | 81 FR 60784
SNPRM Comment Period End | 10/03/16
SNPRM Comment Period Extended | 09/30/16 | 81 FR 67219
SNPRM Comment Period Extended End | 11/02/16
Final Action | 09/00/17

Regulatory Flexibility Analysis Required: Yes.

Agency Contact: Stephanie Johnson, General Engineer, Department of Energy, Energy Efficiency and Renewable Energy, 1000 Independence Avenue SW., Building Technologies Office, EE5B, Washington, DC 20002, Phone: 202 287-1943, Email: stephanie.johnson@ee.doe.gov.

RIN: 1904-AD15

80. Energy Conservation Standards for Residential Non-Weatherized Gas Furnaces and Mobile Home Gas Furnaces

Legal Authority: 42 U.S.C. 6295(f)(4)(C); 42 U.S.C. 6295(m)(1); 42 U.S.C. 6295(gg)(3)

Abstract: The Energy Policy and Conservation Act of 1975 (EPCA), as amended, prescribes energy conservation standards for various consumer products and certain commercial and industrial equipment, including residential furnaces. EPCA also requires the DOE to periodically determine every six years whether more-stringent amended standards would be technologically feasible and economically justified and would save a significant amount of energy. DOE is considering amendments to its energy conservation standards for residential non-weatherized gas furnaces and mobile home gas furnaces in partial fulfillment of a court-ordered remand of DOE's 2011 rulemaking for these products. DOE published a supplemental notice of proposed rulemaking on September 23, 2016.

Timetable:

Action | Date | FR Cite
Notice of Public Meeting | 10/30/14 | 79 FR 64517
NPRM and Notice of Public Meeting | 03/12/15 | 80 FR 13120
NPRM Comment Period Extended | 05/20/15 | 80 FR 28851
NPRM Comment Period Extended End | 07/10/15
Notice of Data Availability (NODA) | 09/14/15 | 80 FR 55038
NODA Comment Period End | 10/14/15
NODA Comment Period Reopened | 10/23/15 | 80 FR 64370
NODA Comment Period Reopened End | 11/23/15
Supplemental NPRM and Notice of Public Meeting | 09/23/16 | 81 FR 65720
Supplemental NPRM Comment Period End | 11/22/16
SNPRM Comment Period Reopened | 12/05/16 | 81 FR 87493
SNPRM Comment Period End | 01/06/17
Final Action | 11/00/17

Regulatory Flexibility Analysis Required: Yes.

Agency Contact: John Cymbalsky, Building Technologies Office, EE-5B, Department of Energy, Energy Efficiency and Renewable Energy, 1000 Independence Avenue SW., Washington, DC 20585, Phone: 202 287-1692, Email: john.cymbalsky@ee.doe.gov.

RIN: 1904-AD20

81. Energy Conservation Standards for Commercial Water Heating Equipment

Legal Authority: 42 U.S.C. 6313(a)(6)(C)(i) and (vi)

Abstract: Once completed, this rulemaking will fulfill DOE's statutory obligation under EPCA to either propose amended energy conservation standards for commercial water heaters and hot water supply boilers, or determine that the existing standards do not need to be amended. (Unfired hot water storage tanks and commercial heat pump water heaters are being considered in a separate rulemaking.) DOE must determine whether national standards more stringent than those that are currently in place would result in a significant additional amount of energy savings and whether such amended national standards would be technologically feasible and economically justified.

Timetable:

Action | Date | FR Cite
Request for Information (RFI) | 10/21/14 | 79 FR 62899
RFI Comment Period End | 11/20/14
NPRM | 05/31/16 | 81 FR 34440
NPRM Comment Period End | 08/01/16
NPRM Comment Period Reopened | 08/05/16 | 81 FR 51812
Comment Period End | 08/30/16
Notice of Data Availability (NODA) | 12/23/16 | 81 FR 94234
Comment Period End | 01/09/17
Final Action | 04/00/18

Regulatory Flexibility Analysis Required: Yes.

Agency Contact: Catherine Rivest, General Engineer, Department of Energy, Energy Efficiency and Renewable Energy, 1000 Independence Avenue SW., Buildings Technologies Office, EE5B, Washington, DC 20585, Phone: 202 586-7335, Email: catherine.rivest@ee.doe.gov.

RIN: 1904-AD34

82. Energy Conservation Standards for Walk-In Coolers and Walk-In Freezers

Legal Authority: 42 U.S.C. 6311; 42 U.S.C. 6313(f)

Abstract: In 2014, the Department of Energy (DOE) issued a rule setting performance-based energy conservation standards for a variety of walk-in cooler and freezer (walk-in) components. See 79 FR 32050 (June 3, 2014). That rule was challenged by a group of walk-in refrigeration system manufacturers and walk-in installers, which led to a settlement agreement regarding certain refrigeration equipment classes addressed in that 2014 rule and certain aspects related to that rule's analysis. See Lennox Int'l v. DOE, Case No. 14-60535 (5th Cir. 2014). Consistent with the settlement agreement, and in accordance with the Federal Advisory Committee Act, a working group was established under the Appliance Standards and Rulemaking Advisory Committee (ASRAC) to engage in a negotiated rulemaking to develop energy conservation standards to replace those that had been vacated by the U.S. Court of Appeals for the Fifth Circuit. As a result of those negotiations, a Term Sheet was produced containing a series of recommendations to ASRAC for its approval and submission to DOE for the agency's further consideration. Using the Term Sheet's recommendations, DOE is establishing energy conservation standards for the six equipment classes of walk-in coolers and walk-in freezers that were vacated by the Fifth Circuit and remanded to DOE for further action. Those standards at issue involve: (1) The two standards applicable to multiplex condensing refrigeration systems operating at medium and low temperatures; and (2) the four standards applicable to dedicated condensing refrigeration systems operating at low temperatures. Also consistent with the settlement agreement, DOE explicitly considered the potential impacts of these six standards on installers. DOE also considered and addressed the potential impacts of these six standards on installers in its Manufacturer Impact Analysis, consistent with its regulatory definition of “manufacturer,” and, as appropriate, in its analysis of impacts on small entities under the Regulatory Flexibility Act. As part of this rulemaking (and consistent with its obligations under the settlement agreement), DOE provided an opportunity for all interested parties to submit comments concerning any proposed standards.

Timetable:

Action | Date | FR Cite
NPRM and Notice of Public Meeting | 09/13/16 | 81 FR 62980
NPRM Comment Period End | 11/14/16
Final Action | 09/00/17

Regulatory Flexibility Analysis Required: Yes.

Agency Contact: John Cymbalsky, Building Technologies Office, EE-5B, Department of Energy, Energy Efficiency and Renewable Energy, 1000 Independence Avenue SW., Washington, DC 20585, Phone: 202 287-1692, Email: john.cymbalsky@ee.doe.gov.

RIN: 1904-AD59

83. Energy Conservation Program: Test Procedures for Central Air Conditioners and Heat Pumps

Legal Authority: 42 U.S.C. 6291 et seq.

Abstract: This rulemaking pertaining to test procedures for Central Air Conditioners and Heat Pumps includes revisions to the test methods to improve test repeatability and reduce the test burden of the test procedure. These revisions will be required for demonstration of compliance with the current energy conservation standards starting 180 days after publication of the final rule. These amendments include: (1) Establishing a delay time prior to off mode power measurements for some systems and limiting the internal volume of refrigerant pressure measurement lines; (2) requiring bin-by-bin EER and COP interpolations for all variable speed units; (3) requiring that the official test for a unit using the outdoor enthalpy method as a secondary check of capacity be the test without the outdoor enthalpy apparatus connected.

DOE is also amending the test procedure to improve field representativeness. These amendments will take effect coincident with updated energy conservation standards and would be part of a new Appendix M1. The new Appendix M1 includes: (1) New higher external static pressure requirements for all units, including unique minimum external static pressure requirements for certain kinds of products; (2) new default fan power values for rating coil-only units; revisions to the heating load line in the calculation of HSPF; and (3) amendments to the test procedures for variable speed heat pumps to allow better representation of their low-ambient-temperature performance, including an optional 5 °F heating mode test.

Timetable:

Action | Date | FR Cite
Supplemental NPRM | 08/24/16 | 81 FR 58164
SNPRM Comment Period End | 09/23/16
Final Rule | 01/05/17 | 82 FR 1426
Final Rule Effective | 07/08/17
Final Rule; Delay of Effective Date | 02/02/17 | 82 FR 8985
Final Rule; Delay of Effective Date Effective | 03/21/17
Final Rule; Further Delay of Effective Date | 03/21/17 | 82 FR 14425
Final Rule; Further Delay of Effective Date Effective | 07/03/17
Final Rule; Technical Correction | 03/29/17 | 82 FR 15457

Regulatory Flexibility Analysis Required: Yes.

Agency Contact: Ashley Armstrong, General Engineer, EE-5B, Department of Energy, Energy Efficiency and Renewable Energy, Building Technologies Office, 1000 Independence Avenue SW., Washington, DC 20585, Phone: 202 586-6590, Email: ashley.armstrong@ee.doe.gov.

RIN: 1904-AD71

84. Energy Conservation Program: Test Procedures for Walk-In Cooler and Freezer Refrigeration Systems

Legal Authority: 42 U.S.C. 6311 et seq.

Abstract: DOE established a Working Group to negotiate amended energy conservation standards for six classes of walk-in cooler and freezer (walk-in) refrigeration systems. After holding a series of meetings as part of a negotiated rulemaking, the Working Group developed a Term Sheet containing a series of recommendations regarding potential energy conservation standards for these refrigeration systems and the current test procedure for evaluating the energy efficiency of a walk-in refrigeration system. This rulemaking proposed several test procedure amendments to implement these recommendations. These amendments include certain changes to improve test procedure clarity, updating related certification and enforcement provisions to address the performance-based energy conservation standards for walk-in cooler and freezer equipment, and establishing labeling requirements that will aid manufacturers in determining which components would be considered for compliance purposes as intended for walk-in cooler and freezer applications. The rule also adds certain equipment-specific definitions, removes the test method for refrigeration systems with hot gas defrost, and includes a method to accommodate refrigeration equipment that use adaptive defrost and on-cycle variable-speed evaporator fan control.

Timetable:

Action | Date | FR Cite
NPRM | 08/17/16 | 81 FR 54926
NPRM Comment Period End | 10/17/16
Final Rule | 12/28/16 | 81 FR 95758
Final Rule Effective | 01/27/17
Final Rule; Delay of Effective Date | 01/31/17 | 82 FR 8805
Final Rule; Delay of Effective Date Effective | 03/21/17
Final Rule; Further Delay of Effective Date | 03/21/17 | 82 FR 14426
Final Rule; Further Delay of Effective Date Effective | 06/26/17

Regulatory Flexibility Analysis Required: Yes.

Agency Contact: Ashley Armstrong, General Engineer, EE-5B, Department of Energy, Energy Efficiency and Renewable Energy, Building Technologies Office, 1000 Independence Avenue SW., Washington, DC 20585, Phone: 202 586-6590, Email: ashley.armstrong@ee.doe.gov.

RIN: 1904-AD72

DEPARTMENT OF ENERGY (DOE)

Energy Efficiency and Renewable Energy (EE)

Completed Actions

85. Energy Conservation Standards for Ceiling Fans

Legal Authority: 42 U.S.C. 6295(ff); 42 U.S.C. 6291(49)

Abstract: EPCA authorizes the Secretary to determine whether updating the statutory energy conservation standards for ceiling fans is technologically feasible and economically justified and would result in significant energy savings. If these criteria are met, the Secretary may issue amended energy conservation standards for ceiling fans.

Completed:

Reason | Date | FR Cite
Final Rule | 01/19/17 | 82 FR 6826
Final Rule Effective | 03/20/17
Final Rule; Delay of Effective Date | 01/31/17 | 82 FR 8806
Final Rule; Delay of Effective Date Effective | 03/21/17
Final Rule; Further Delay of Effective Date | 03/21/17 | 82 FR 14427
Final Rule; Further Delay of Effective Date Effective | 09/30/17
Final Rule; Completion of Review; Confirmation of Rulemaking | 05/24/17 | 82 FR 23723

Regulatory Flexibility Analysis Required: Yes.

Agency Contact: Lucy DeButts, Phone: 202 287-1604, Email: lucy.debutts@ee.doe.gov.

RIN: 1904-AD28

86. Energy Conservation Standards for Hearth Products

Legal Authority: 42 U.S.C. 6292(a)(20) and (b); 42 U.S.C. 6295(l)(1)

Abstract: DOE is conducting a rulemaking to analyze potential energy conservation standards for hearth products. DOE is developing this rulemaking concurrent with its coverage determination for these products.

Completed:

Reason | Date | FR Cite
Withdrawn | 03/31/17

Regulatory Flexibility Analysis Required: Yes.

Agency Contact: John Cymbalsky, Phone: 202 287-1692, Email: john.cymbalsky@ee.doe.gov.

RIN: 1904-AD35

87. Energy Conservation Standards for Central Air Conditioners and Heat Pumps

Legal Authority: 42 U.S.C. 6295(m)(1); 42 U.S.C. 6292 (a)(3)

Abstract: Under the Energy Policy and Conservation Act's six-year review requirement, 42 U.S.C. 6295(m)(1), DOE must publish a notice of proposed rulemaking to propose new standards for residential central air conditioner and heat pump products, or a notice of determination that the existing standards do not need to be amended, by June 6, 2017. This rulemaking is to determine whether amended standards for residential central air conditioner and heat pump products would result in a significant amount of energy savings, and whether those standards would be technologically feasible and economically justified. On July 14, 2015, DOE announced its intention to establish a negotiated rulemaking working group to negotiate proposed federal standards for the energy efficiency requirements of central air conditioners and heat pumps. On January 19, 2016, the working group delivered a final term sheet to the Appliance Standards and Rulemaking Committee (ASRAC). DOE published a direct final rule and an accompanying notice of proposed rulemaking on January 6, 2017.

Completed:

Reason | Date | FR Cite
Notice of Data Availability (NODA) | 10/27/16 | 81 FR 74727
NODA Comment Period End | 11/14/16
NPRM | 01/06/17 | 82 FR 1608
Direct Final Rule | 01/06/17 | 82 FR 1786
Direct Final Rule Effective | 05/08/17
Final Action; Confirmation of Effective Date and Compliance Date for Direct Final Rule | 05/26/17 | 82 FR 24211

Regulatory Flexibility Analysis Required: Yes.

Agency Contact: Ashley Armstrong, Phone: 202 586-6590, Email: ashley.armstrong@ee.doe.gov.

RIN: 1904-AD37

88. Energy Conservation Standards for Dedicated-Purpose Pool Pumps

Legal Authority: 42 U.S.C. 6311(1)(A)

Abstract: Under the Energy Policy and Conservation Act, DOE may set energy conservation standards for types of pumps, including dedicated-purpose pool pumps (42 U.S.C. 3211(1)(A)). On August 8, 2015, DOE announced its intention to establish a negotiated rulemaking working group to negotiate proposed federal standards for dedicated-purpose pool pumps. The working group presented a final term sheet to the Appliance Standards and Rulemaking Advisory Committee (ASRAC) on December 8, 2015. DOE published a direct final rule and an accompanying notice of proposed rulemaking on January 18, 2017.

Completed:

Reason | Date | FR Cite
NPRM | 01/18/17 | 82 FR 5446
Direct Final Rule | 01/18/17 | 82 FR 5650
Direct Final Rule Effective | 05/18/17
Final Action; Confirmation of Effective Date and Compliance Date for Direct Final Rule | 05/26/17 | 82 FR 24218

Regulatory Flexibility Analysis Required: Yes.

Agency Contact: John Cymbalsky, Phone: 202 287-1692, Email: john.cymbalsky@ee.doe.gov.

RIN: 1904-AD52

DEPARTMENT OF ENERGY (DOE)

Defense and Security Affairs (DSA)

Proposed Rule Stage

89. Workplace Substance Abuse Programs at DOE Sites

Legal Authority: 41 U.S.C. 701 et seq.; 41 U.S.C. 2012, 2013, 2051, 2061, 2165, 2201b, 2201i and 2201(p); 42 U.S.C. 5814 and 5815; 42 U.S.C. 7151, 7251 and 7256; 42 U.S.C. 7254; 50 U.S.C. 2410 et seq.

Abstract: The Department of Energy is amending its workplace substance abuse programs at DOE sites regulation. The proposed amendments would address drug and alcohol abuse, testing workers in certain sensitive positions, development and approval of a workplace substance abuse program, employee assistance programs and training. The proposed amendments would improve and strengthen the substance abuse programs and enhance consistency with advances in similar rules and other Federal drug and alcohol programs that place similar requirements on the private sector.

Timetable:

Action | Date | FR Cite
NPRM | 12/00/17

Regulatory Flexibility Analysis Required: Yes.

Agency Contact: Dr. Bill McArthur, Director, Office of Worker Safely and Health Policy, Department of Energy, 1000 Independence Avenue SW., Washington, DC 20585, Phone: 301 903-6061, Email: bill.mcarthur@hq.doe.gov.

RIN: 1992-AA53

DEPARTMENT OF ENERGY (DOE)

Departmental and Others (ENDEP)

Proposed Rule Stage

90. • Small-Scale Natural Gas Exports (Section 610 Review)

Legal Authority: 15 U.S.C. 717b(a); 15 U.S.C. 717b(c)

Abstract: This rule would revise DOE regulations implementing section 3(a) of the Natural Gas Act, 15 U.S.C. 717b(a), for “qualifying small-scale” exports of natural gas, including liquefied natural gas. Under this rule, DOE would issue an order upon receipt of any application that seeks to export natural gas to non-FTA countries, provided the application meets the criteria for small-scale exports. In promulgating this rule, DOE would clarify its interpretation of “public interest” under NGA section 3(a). The intent of the rule is to improve DOE's application procedures related to natural gas exports, reduce the administrative burdens associated with the small-scale natural gas export market, and result in more efficient processing of applications for small-scale natural gas exports.

Timetable:

Action | Date | FR Cite
NPRM | 12/00/17

Regulatory Flexibility Analysis Required: Undetermined.

Agency Contact: Betsy Kohl, Attorney Advisor, Department of Energy, 1000 Independence Avenue SW., Room 6A-179, Washington, DC 20585, Phone: 202 586-7796, Email: elizabeth.kohl@hq.doe.gov.

RIN: 1901-AB43

DEPARTMENT OF ENERGY (DOE)

Office of General Counsel (OGC)

Final Rule Stage

91. Energy Conservation Program: Certification and Enforcement—Import Data Collection

Legal Authority: 42 U.S.C. 6291 to 6317

Abstract: This rulemaking will provide DOE an automated mechanism to advise U.S. Customs and Border Protection (CBP) of imports that do not comply with energy conservation standards and/or to advise CBP of DOE's recommendation for conditional release of goods.

Timetable:

Action | Date | FR Cite
NPRM | 12/29/15 | 80 FR 81199
NPRM Comment Period End | 02/12/16
Notice of Public Meeting and NPRM Comment Period Reopened | 02/17/16 | 81 FR 8022
NPRM Comment Period Reopened End | 02/29/16
2nd NPRM Comment Period Reopened | 03/07/16 | 81 FR 11686
2nd NPRM Comment Period Reopened End | 03/14/16
3rd NPRM Comment Period Reopened | 05/16/16 | 81 FR 30217
3rd NPRM Comment Period Reopened End | 06/15/16
Final Action | 11/00/17

Regulatory Flexibility Analysis Required: Yes.

Agency Contact: Laura Barhydt, Assistant General Counsel for Enforcement, GC-32, Department of Energy, Office of General Counsel, 1000 Independence Avenue SW., Washington, DC 20585, Phone: 202 287-5772, Email: laura.barhydt@hq.doe.gov.

RIN: 1990-AA44

[FR Doc. 2017-16919 Filed 8-23-17; 8:45 am]

BILLING CODE 6450-01-P